COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and delete product(s) previously furnished by such agencies.

DATES: Comments must be received on or before: July 11, 2021.

ADDRESSES: Committee for Purchase From People Who Are Blind or Severely Disabled, 1401 S Clark Street, Suite 715, Arlington, Virginia 22202-414.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Base Operation Support Services

Mandatory for: United States Coast Guard, Air Station Barber's Point, Kapolei, HI

Designated Source of Supply: Service Disabled Veterans Business Association, Silver Springs, MD

Contracting Activity: U.S. COAST GUARD, DOL-9

Service Type: Facility Maintenance Support Service

Mandatory for: U.S. Marshals Service, U.S. Marshals Service Headquarters, Arlington, VA

Mandatory Source of Supply: Chimes District of Columbia, Baltimore, MD

Contracting Activity: U.S. MARSHALS SERVICE, U.S. DEPT OF JUSTICE, USMS

Deletions

The following product(s) are proposed for deletion from the Procurement List:

Product(s)

NSN(s)—Product Name(s):

4240-00-NIB-0239—Self-Contained Breathing Apparatus Identifier Tags

4240-00-NIB-0276—Label, Custom, SBCA ID, Adhesive Back, Photoluminescent

Designated Source of Supply: Cincinnati Association for the Blind, Cincinnati, OH

Contracting Activity: DLA TROOP SUPPORT, PHILADELPHIA, PA

NSN(s)—Product Name(s): 7510-01-350-1810—Correction Tape, Refill Cartridge, White, 12m

Designated Source of Supply: West Texas Lighthouse for the Blind, San Angelo, TX

Contracting Activity: GSA/FAS ADMIN SVCS ACQUISITION BR(2, NEW YORK, NY

NSN(s)—Product Name(s): 7510-01-350-1810—Correction Tape, Refill Cartridge, White, 12m

Designated Source of Supply: Industries for the Blind and Visually Impaired, Inc., West Allis, WI

Contracting Activity: GSA/FAS ADMIN SVCS ACQUISITION BR(2, NEW YORK, NY

NSN(s)—Product Name(s): 6850-00-973-9091—Penetrating Fluid

Designated Source of Supply: The Lighthouse for the Blind, St. Louis, MO

Contracting Activity: GSA/FSS GREATER SOUTHWEST ACQUISITI, FORT WORTH, TX

NSN(s)—Product Name(s): 8465-01-580-0967—M-4 magazine Side-by-Side Pouch, OCP

Designated Source of Supply: Chautauqua County Chapter, NYSARC, Jamestown, NY

Contracting Activity: DLA TROOP SUPPORT, PHILADELPHIA, PA

NSN(s)—Product Name(s): 8465-01-580-0967—M-4 magazine Side-by-Side Pouch, OCP

Designated Source of Supply: Southeastern Kentucky Rehabilitation Industries, Inc., Corbin, KY

Contracting Activity: DLA TROOP SUPPORT, PHILADELPHIA, PA

Michael R. Jurkowski,
Deputy Director, Business Operations.

[FR Doc. 2021-12271 Filed 6-10-21; 8:45 am]

BILLING CODE 6353-01-P